DEPARTMENT OF ENERGY

Federal Energy Regulatory Commission

[Project No. 13861-000]

Eldorado Pumped Storage, LLC.; Notice of Preliminary Permit Application Accepted for Filing and Soliciting Comments, Motions To Intervene, and Competing Applications

On October 14, 2010, Eldorado Pumped Storage, LLC., filed an application for a preliminary permit, pursuant to section 4(f) of the Federal Power Act (FPA), proposing to study the feasibility of the Eldorado Pumped Storage Project (Eldorado Project or project) to be located in hills west of the Eldorado Valley in Clark County, Nevada, south of Las Vegas, Nevada. The sole purpose of a preliminary permit, if issued, is to grant the permit holder priority to file a license application during the permit term. A preliminary permit does not authorize the permit holder to perform any land-disturbing activities or otherwise enter upon lands or waters owned by others without the owners' express permission.

The project would consist of the following: (1) An upper dam with a height of 180 feet, a crest length of 1,970 feet, forming a reservoir having a total storage capacity of 10,680 acre-feet at a normal maximum operating elevation of 3,570 feet above mean sea level (msl); (2) a secondary upper dam with a height of 110 feet, a crest length of 1,512 feet; (3) a lower dam with a height of 10 to 110 feet, a crest length of 10,040 feet, forming a reservoir having a total storage capacity of 9,500 acre-feet at a normal maximum operating elevation of 2,420 feet msl; (4) 7,060 feet of conduit; (5) a powerhouse containing one 250-megawatt (MW), one 100-MW, and one 50-MW reversible pump turbine, tentatively located just west of the lower reservoir, at approximately a depth of 250 feet below ground level; and (6) a new 5.3-mile-long, 230-kilovolt (kV) transmission line to either the existing Marketplace, McCullough, or Eldorado substations. The tentative source for initial fill of water and evaporation compensation would be the Southern Nevada Water Authority. The specific routing for that water delivery would be identified during the study period. The estimated annual generation of the project would be 1,226 gigawatt-hours.

Applicant Contact: Eldorado Pumped Storage, LLC. 1210 W. Franklin St., Ste. 2, Boise, ID 83702; phone: (208) 246-9925.

FERC Contact: Matt Buhyoff; phone: (202) 502-6824.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13861-000) in the docket number field to access the document. For assistance, contact FERC Online Support.

Dated: October 7, 2011.
Kimberly D. Bose,
Secretary.

[FR Doc. 2011-26598 Filed 10-13-11; 8:45 am]

BILLING CODE 6717-01-P